DEPARTMENT OF STATE

[Public Notice 5190]

Meeting of the U.S.-Chile Environment Affairs Council

ACTION: Notice and request for comments.

SUMMARY: The Department of State and the Office of the United States Trade Representative (USTR) are providing notice that, as set forth in Chapter 19 (Environment) of the U.S.-Chile Free Trade Agreement (FTA), the tow governments intend to hold the second meeting of the Environment Affairs Council (the “Council”) in Washington, DC on October 24, 2005. U.S. Deputy Assistant Secretary Claudia McMurray and Chilean Under Secretary Rodrigo Egana will jointly chair the Council meeting. The purpose of this meeting is detailed below under SUPPLEMENTARY INFORMATION.

In this notice, the Department of state and USTR are requesting: (1) Written comments from the public regarding agenda items for the Council meeting; (2) written comments regarding the implementation of the eight cooperative projects listed in Annex 19.3 of Chapter 19 (Environment) of the FTA, particularly Reducing Mining Pollution and Sharing Private Sector Expertise (in the initial implementation stages); (3) written comments regarding implementation of Chapter 19's framework for public participation; and (4) written suggestions for future bilateral environmental cooperation between the United States and the Republic of Chile. A joint public session will be held immediately following the Council meeting. The purpose of this public session is detailed below under SUPPLEMENTARY INFORMATION. In preparing comments, the public is encouraged to refer to:

• The environment chapter of the U.S.-Chile Free Trade Agreement and Annex 19.3, available at: http://www.ustr.gov/assets/Trade_Agreements/Bilateral/Chile_FTA/Final_Texts/asset_upload_file482_401.3.pdf;

• The U.S.-Chile Environmental Cooperation Agreement, available at: http://www.state.gov/goes/rls/or/22185.html and

• The Final Environment Review of the U.S.-Chile Free Trade Agreement, available at: http://www.ustr.gov/assets/Trade_Agreements/Bilateral/Chile_FTA/ asset_upload_file 411_5109.pdf.

DATES: To guarantee receipt in proper time for consideration prior to the meeting, comments are requested no later than October 20, 2005.

ADDRESSES: Comments may be sent by fax to (202) 647-5947 or (202) 647-1052. by e-mail to OES-ENV-Mail@state.gov.

FOR FURTHER INFORMATION CONTACT: Lawrence Sperling, Department of State, Bureau of Oceans and International Environmental and Scientific Affairs, Office of Policy Coordination and Initiatives, Telephone (202) 647-2061.

SUPPLEMENTARY INFORMATION: The U.S.-Chile Free Trade Agreement (FTA) entered into force on January 1, 2004. Article 3 of Chapter 19 (Environment) of the FTA establishes an Environment Affairs Council (the “Council”), which is required to meet once a year, or more often if agreed by the two governments, to discuss the implementation of, and progress under, Chapter 19. Chapter 19 requires that meetings of the Council include a public session, unless otherwise agreed by the two governments. The first meeting of the Council was held on July 22, 2004, in Santiago, Chile, to discuss issues of mutual concern related to Chapter 19 of the FTA, including matters related to the eight cooperation projects listed in Annex 19.3 of the FTA. The Council Agenda for this second meeting will include discussion of the progress in implementing the eight cooperation projects under Chapter 19 of the FTA. This meeting will also consider how to further implement the provisions of Chapter 19, including public participation, and recommendations for future bilateral cooperation. Written comments from the public regarding agenda items for the Council meeting, as well as written comments regarding the eight cooperative projects and future bilateral cooperation, may be submitted to the contact addresses listed above.

The public session will take place in Washington, DC after the Council meeting, on October 24, 2005 starting time and place to be announced, in order to explain the provision in Chapter 19 of the FTA and the role of the Council, as well as discuss the cooperative projects identified in the annex of Chapter 19. The public is advised to refer to the State Department Web site at http://www.state.gov/g/oes/env/ for further information related to this meeting.

Dated: September 15, 2005.
David E. Brown,
Director, Office of Environmental Policy Department of State.

[FR Doc. 05-18723 Filed 9-19-05; 8:45 am]

BILLING CODE 4710-09-M